DEPARTMENT OF COMMERCE

National Oceanic and Atmospheric Administration

[RTID 0648-XE108]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Scientific Statistical Committee (SSC). See SUPPLEMENTARY INFORMATION.

DATES: The SSC meeting will be held via webinar on August 15, 2024, from 8:30 a.m. until 5 p.m., EDT.

ADDRESSES: The meeting will be held via webinar.

Council address: South Atlantic Fishery Management Council, 4055 Faber Place Drive, Suite 201, N Charleston, SC 29405.

FOR FURTHER INFORMATION CONTACT: Kim Iverson, Public Information Officer, 4055 Faber Place Drive, Suite 201, North Charleston, SC 29405; phone: (843) 571-4366 or toll free: (866) SAFMC-10; fax: (843) 769-4520; email: kim.iverson@safmc.net.

SUPPLEMENTARY INFORMATION: The meeting is open to the public via webinar as it occurs. Webinar registration is required. Information regarding webinar registration is available from the Council's website at: https://safmc.net/events/august-2024-ssc-meeting/. The meeting agenda, briefing book materials, and online comment form will be posted to the Council's website two weeks prior to the meeting. Written comment on SSC agenda topics is to be distributed to the Committee through the Council office, similar to all other briefing materials. For this meeting, the deadline for submission of written comment is 5 p.m. EDT August 14, 2024.

The meeting agenda includes a review of South Atlantic Black Sea Bass Assessment Projections and the Management Strategy Evaluation for Black Grouper. The SSC will receive updates on Regulatory Amendment 36 to the Snapper Grouper Fishery Management Plan, Coral Amendment 10, the Southeast For-Hire Integrated Electronic Reporting (SEFHIER) Program, SSC workgroups, Southeast Data, Assessment, and Review (SEDAR) appointments, and conduct other business as needed. The SSC will provide guidance to staff and make recommendations for Council consideration.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: July 24, 2024.
Rey Israel Marquez,
Acting Deputy Director, Office of Sustainable Fisheries, National Marine Fisheries Service.

[FR Doc. 2024-16623 Filed 7-26-24; 8:45 am]

BILLING CODE 3510-22-P